DEPARTMENT OF JUSTICE

Notice of Lodging of Consent Decree Under the Clean Water Act

Pursuant to 28 CFR 50.7, notice is hereby given that on October 7, 2005, a proposed consent decree in United States v. Sanitation District No. 1 of Northern Kentucky, Civil No. 05-199-WOB, was lodged with the United States District Court for the Eastern District of Kentucky.

This Consent Decree will address claims asserted by the United States in a complaint filed contemporaneously with the Consent Decree against Sanitation District No. 1 of Northern Kentucky(“the District”) for civil penalties and injunctive relief under section 309 of the Clean Water Act (“the Act”), 33 U.S.C. 1319, for discharges of pollutants in violation of section 301 of the Act, 33 U.S.C. 1311, including violation of conditions established in the National Pollutant Discharge Elimination System (“NPDES”) permits issued to the District by the Kentucky Department of Environmental Protection (“KDEP”), pursuant to authority delegated to it by EPA under section 402(b) of the Act, 33 U.S.C. 1342(b), and for discharges of pollutants without an NPDES permit.

The remedial measures prescribed under the proposed Consent Decree are divided into two primary parts: Initial watershed program projects and submittals, and development and implementation of long-term watershed plans for each of the four watersheds in The District's service area. The initial watershed program projects and submittals, which are to occur within one year of entry of the Consent Decree, include documentation demonstrating the status of the District's compliance with the Nine Minimum Controls required under EPA's Combined Sewer System policy; a self-assessment of the District's Capacity, Management, Operation and Maintenance (CMOM) Programs, including the submittal of three specific programs: Gravity line prevention maintenance, grease control, and a Sewer Overflow Response Plan; an initial watershed program projects list; and a pump station plan to address high volume and chronic unpermitted discharges at pump stations. This long-term watershed plan development portion of the Consent Decree requires submission of a framework for developing watershed plans within six months of entry of the Consent Decree; submission by December 2008 of a watershed plan for each of the four watersheds, including a Long Term Control Plan and a Sanitary Sewer Overflow Plan; and submission every five years thereafter of updated watershed plans, through December 2025, at which time the Consent Decree requires full compliance with Combined Sewer Overflow water quality standards criteria and the elimination of all unpermitted discharges. The District will pay a civil penalty of $476,000, with $338,200 going to Kentucky and $138,000 going to the United States. The District is also required to perform supplemental environmental projects valued at not less than $636,000.

The Department of Justice will receive for a period of thirty (30) days from the date of this publication comments relating to the consent decree. Comments should be addressed to the Assistant Attorney General, Environment and Natural Resources Division, P.O. Box 7611, U.S. Department of Justice, Washington, PC 20044-7611, and should refer to United States v. Sanitation District No. 1 of Northern Kentucky, D.J. Ref. #90-5-1-1-08591.

The consent decree may be examined at the Office of the United States Attorney for the Eastern District of Kentucky, 110 West Vine Street, Lexington, KY 40507, and at U.S. EPA Region 4, Office of Regional Counsel, 61 Forsyth Street, Atlanta, GA 30303. During the public comment period, the consent decree may also be examined on the following Department of Justice Web site: http://www.usdoj.gov/enrd/open.html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $18.75 (25 cents per page reproduction cost) payable to the U.S. Treasury.

Ellen M. Mahan,
Assistant Section Chief, Environmental Enforcement Section, Environment and Natural Resources Division.

[FR Doc. 05-20933 Filed 10-18-05; 8:45 am]

BILLING CODE 4410-15-M